SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: May 1-31, 2018.

ADDRESSES: Susquehanna River Basin Commission, 4423 North Front Street, Harrisburg, PA 17110-1788.

FOR FURTHER INFORMATION CONTACT: Jason E. Oyler, General Counsel, 717-238-0423, ext. 1312, joyler@srbc.net. Regular mail inquiries May be sent to the above address.

SUPPLEMENTARY INFORMATION: This notice lists the projects, described below, receiving approval for the consumptive use of water pursuant to the Commission's approval by rule process set forth in 18 CFR 806.22(e) and 806.22(f) for the time period specified above:

Approvals by Rule Issued Under 18 CFR 806.22(f)

1. Repsol Oil & Gas USA, LLC, Pad ID: REPINE (07 022) T, ABR-201305009.R1, Apolacon Township, Susquehanna County, Pa.; Consumptive Use of Up to 6.0000 mgd; Approval Date: May 3, 2018.

2. Chesapeake Appalachia, LLC, Pad ID: BIM, ABR-201311006.R1, Wilmot Township, Bradford County, Pa.; Consumptive Use of Up to 7.5000 mgd; Approval Date: May 14, 2018.

3. Chief Oil & Gas, LLC, Pad ID: Kupscznk B Drilling Pad, ABR-201311007.R1, Springville Township, Susquehanna County, Pa.; Consumptive Use of Up to 2.0000 mgd; Approval Date: May 17, 2018.

4. Pennsylvania General Energy Company, LLC, Pad ID: COP Tract 322 Pad E, ABR-201308002.R1, Cummings Township, Lycoming County, Pa.; Consumptive Use of Up to 4.5000 mgd; Approval Date: May 21, 2018.

5. Chief Oil & Gas, LLC, Pad ID: Garrison West Drilling Pad, ABR-201311010.R1, Lemon Township, Wyoming County, Pa.; Consumptive Use of Up to 2.0000 mgd; Approval Date: May 24, 2018.

6. ARD Operating, LLC, Pad ID: Larry's Creek F&G Pad G, ABR-201308007.R1, Mifflin Township, Lycoming County, Pa.; Consumptive Use of Up to 4.0000 mgd; Approval Date: May 29, 2018.

7. ARD Operating, LLC, Pad ID: Elbow F&G Pad D, ABR-201309013.R1, Cogan House Township, Lycoming County, Pa.; Consumptive Use of Up to 4.0000 mgd; Approval Date: May 29, 2018.

8. ARD Operating, LLC, Pad ID: Kenmar HC Pad A, ABR-201309014.R1, Cogan House Township, Lycoming County, Pa.; Consumptive Use of Up to 4.0000 mgd; Approval Date: May 29, 2018.

9. ARD Operating, LLC, Pad ID: Alden Evans Pad A, ABR-201805001, Cascade Township, Lycoming County, Pa.; Consumptive Use of Up to 4.0000 mgd; Approval Date: May 29, 2018.

10. ARD Operating, LLC, Pad ID: MAC Pad B, ABR-201805002, Cascade Township, Lycoming County, Pa.; Consumptive Use of Up to 4.0000 mgd; Approval Date: May 29, 2018.

11. Cabot Oil & Gas Corporation, Pad ID: ThomasR P1, ABR-201305005.R1, Lenox Township, Susquehanna County, Pa.; Consumptive Use of Up to 5.0000 mgd; Approval Date: May 29, 2018.

12. Cabot Oil & Gas Corporation, Pad ID: DiazM P1, ABR-201805003, Springville Township, Susquehanna County, Pa.; Consumptive Use of Up to 5.0000 mgd; Approval Date: May 29, 2018.

Authority: Pub. L. 91-575, 84 Stat. 1509 et seq., 18 CFR parts 806, 807, and 808.

Dated: July 3, 2018.
Stephanie L. Richardson,
Secretary to the Commission.

[FR Doc. 2018-14671 Filed 7-6-18; 8:45 am]

BILLING CODE 7040-01-P